Proclamation 9809 of October 19, 2018

National Forest Products Week, 2018

By the President of the United States of America

A Proclamation

Each day, Americans use and benefit from high-quality products generated from our Nation's bountiful forests. During National Forest Products Week, we recognize that strong, healthy, and well-managed forests are vital to our Nation's economic prosperity.

Forested lands make up one-third of America's total land base and allow for the production of paper and packaging materials; lumber for our homes, buildings, and bridges; renewable energy materials; and a myriad of goods for domestic and global markets. The forest products industry is one of the top 10 manufacturing sector employers in 45 States, producing more than $200 billion a year in sales and providing approximately $50 billion annually in payroll. Additionally, the industry's sustainable business practices and proper management of resources help us protect our abundant forests.

A strong forest products sector stimulates job growth and bolsters our national and rural economies. My Administration is working to support effective, active, science-based forest management to help boost America's competitiveness and success in this modern industry. We support the industry's efforts to develop innovative ways of using wood in modern-day construction and are working alongside States, local communities, private companies, and tribal entities to support wood initiatives in construction markets. These opportunities provide potential pathways to new products, more jobs, and a reemergence of rural timber communities in an industry that is ready to expand.

This week, we acknowledge the many ways our Nation's forests and woodlands contribute to our everyday lives through the raw materials they provide for numerous products, as well as the opportunities they offer for outdoor recreation. We also honor all the dedicated men and women who help to manage America's beautiful forests and ensure they remain among our Nation's greatest natural resources.

Recognizing the economic value of the products yielded in our Nation's forests, the Congress, by Public Law 86-753 (36 U.S.C. 123), as amended, has designated the week beginning on the third Sunday in October of each year as “National Forest Products Week” and has authorized and requested the President to issue a proclamation in observance of this week.

NOW, THEREFORE, I, DONALD J. TRUMP, President of the United States of America, by virtue of the authority vested in me by the Constitution and the laws of the United States, do hereby proclaim October 21 through October 27, 2018, as National Forest Products Week. I call upon all Americans to observe this week with appropriate ceremonies and activities and to reaffirm our commitment to our Nation's forests.

IN WITNESS WHEREOF, I have hereunto set my hand this nineteenth day of October, in the year of our Lord two thousand eighteen, and of the Independence of the United States of America the two hundred and forty-third.

[FR Doc. 2018-23416

Filed 10-23-18; 11:15 am]

Billing code 3295-F9-P